DEPARTMENT OF THE INTERIOR

Bureau of Land Management

[LLAZP02000.L54100000.FR0000.LVCLA09A5130.241A; AZA-34655]

Notice of Realty Action: Application for Conveyance of Federally Owned Mineral Interests in Pima County, AZ

AGENCY: Bureau of Land Management, Interior.

ACTION: Notice of Realty Action.

SUMMARY: Upon publication of this notice, the BLM is temporarily segregating the federally owned mineral interests in the land covered by the application from all forms of appropriation under the public land laws, including the mining laws, for up to 2 years while the BLM processes the application. The Bureau of Land Management (BLM) is processing an application under the Federal Land Policy and Management Act (FLPMA) to convey the federally owned mineral interests of 2,286.19 acres located in Pima County, Arizona, to the surface owner, Freeport-McMoRan Sierrita Inc.

DATES: Interested persons may submit written comments to the BLM at the address listed below. Comments must be received no later than July 19, 2013.

ADDRESSES: Bureau of Land Management, Phoenix District Office, 21605 North Seventh Avenue, Phoenix, AZ 85027. Detailed information concerning this action is available for review at this address.

FOR FURTHER INFORMATION CONTACT: Benedict Parsons, Realty Specialist, at 623-580-5637. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The location of the federally owned mineral interest segregated by this notice is intended to be identical in location as the privately owned surface interest of the applicant. The tract of land referred to in this notice consists of several miscellaneously shaped parcels of land totaling 2,286.19 acres situated in Pima County, Arizona, and is described as follows:

Gila and Salt River Meridian, Arizona

T. 18 S., R. 12 E,

Sec. 3, Lots 1-4, inclusive, S½NE¼, E½SW¼, NW¼SW¼, N½SW¼SW¼, N½SE¼, except any portion lying within McGee Ranch Road right-of-way as shown in Book 2 of road maps at Pages 184, 185, and 186. (As reserved in U. S. patents 1048789, 929394 and 1080490)

The area described contains 458.62 acres.

Sec. 4, Portions of lots 1 and 2, lying South of the southerly right-of-way of McGee Ranch Road as shown in Book 2 of road maps at Pages 184, 185, and 186, E½NW¼SW¼, SW¼NW¼SW¼, N½SW¼SW¼, N½SE¼SW¼, N½SE¼, N½SW¼SE¼, and N½SE¼SE¼, excluding any portion lying within the legal description as described in Quiet Title Judgment, recorded in Superior Court Case No. 312364 on December 17, 1996, in Docket 10443, at Page 2348, together with a portion of that land described in said Quiet Title Judgment falling within SW¼NW¼SE¼ and the NW¼SW¼SE¼, more specifically described as follows:

BEGINNING at the South Quarter corner of said Section 4, an aluminum capped pin, marked LS 13007;

THENCE North 00 degrees 00 minutes 20 seconds East along the Westerly line of said Southeast Quarter, 1321.95 feet to a ½ inch rebar;

THENCE continue North 00 degrees 00 minutes 20 seconds East, 138.52 feet;

THENCE South 89 degrees 59 minutes 40 seconds East, 95.60 feet to the existing fence line; THENCE South 00 degrees 09 minutes 17 seconds West, 1460.40 feet along said fence line to the Southerly line of said Section 4;

THENCE South 88 degrees 28 minutes 11 seconds West, 90.98 feet along said Section line to the POINT OF BEGINNING. (As reserved in U. S. patents 1048789, 1048790 and 1080490)

The area described contains 242.55 acres.

Sec. 5, Lots 1-4, inclusive, S½NE¼, S½NW¼, NE¼SE¼, N½NW¼SE¼, except any portion lying within McGee Ranch Road right-of-way as shown in Book 2 of road maps at Pages 184, 185, and 186, and except any portion lying within the legal description as described in Quiet Title Judgment, recorded in Superior Court Case No. 312364 on December 17, 1996, in Docket 10443, at Page 2348. (As reserved in U. S. patent 843078)

The area described contains 366.20 acres.

Sec. 6, Lot 1, SE¼NE¼, NE¼SE¼, E½E½SW¼SE¼, and SE¼SE¼, excluding Mineral Survey No. 4667 as described in U.S. patent 02-76-0031. (As reserved in U.S. patents 843078 and 1059077)

The area described contains 163.16 acres.

Sec. 7, SE¼NE¼NW¼, NE¼SE¼NW¼, and SW¼SE¼NW¼, excluding Mineral Survey No. 4667 as described in U.S. patent 02-76-0031. (As reserved in U.S. patent 1077829)

The area described contains 15.78 acres.

Sec. 10, NE¼NW¼, and S½NW¼. (As reserved in U.S. patent 1080490)

The area described contains 120 acres.

Sec. 15, N½, NE¼SW¼, and W½SW¼, excluding Mineral Survey No. 4428 as described in U.S. patent 1221420, Mineral Survey No. 4389 as described in U.S. patent 1166564, and Mineral Survey No. 276 as described in U.S. patent 6798. (As reserved in U.S. patent 1113040)

The area described contains 318.52 acres.

Sec. 20, N½, excluding Mineral Survey No. 4428, as described in U.S. patent 1221420. (As reserved in U.S. patent 1114812)

The area described contains 317.26 acres.

Sec. 21, Lots 1-4, inclusive, S½NE¼, NW¼NW¼, and S½NW¼, excluding Mineral Survey No. 4428, as described in U.S. patent 1221420. (As reserved in U.S. patent 1123349)

The area described contains 284.10 acres.

The areas described aggregate approximately 2,286.19 acres in Pima County, Arizona.

Under certain conditions, Section 209(b) of the FLPMA of October 21, 1976, 43 U.S.C. 1719, authorizes the sale and conveyance of minerals under non-Federal surface to the current or prospective surface owner, upon payment of administrative costs and the fair market value of the interest being conveyed. The applicant has deposited, as required under section 209(3)(i), an estimated sum of money determined sufficient to cover administrative costs, including, but not limited to, costs of conducting an exploratory program to determine the character of the mineral deposits in the land. The objective is to allow consolidation of the surface and mineral interests when either one of the following conditions exist: (1) There are no known mineral values in the land; or (2) Where continued Federal ownership of the mineral interests interferes with or precludes appropriate non-mineral development and such development is a more beneficial use of the land than mineral development.

An application was filed for the sale and conveyance of the federally owned mineral interests in the above-described tracts of land. Subject to valid existing rights, on June 4, 2013 the federally owned mineral interests in the land described above are hereby segregated from all forms of appropriation under the public land laws, including the mining laws, while the application is being processed to determine if either one of the two specified conditions exists and, if so, to otherwise comply with the procedural requirements of 43 CFR part 2720. The segregative effect shall terminate upon: (1) Issuance of a patent or other document of conveyance as to such mineral interests; (2) Final rejection of the application; or (3) June 4, 2015, whichever occurs first.

Comments: Your comments are invited. Please submit all comments in writing to Benedict Parsons at the address listed above. Before including your address, phone number, email address, or other personal identifying information in your comment, you should be aware that your entire comment, including your personal identifying information, may be made available to the public at any time. While you can ask in your comment to withhold your personal identifying information from public review, we cannot guarantee that we will be able to do so.

Authority: 43 CFR 2720.1-1(b).

Patrick Putnam,
Acting District Manager.

[FR Doc. 2013-13158 Filed 6-3-13; 8:45 am]

BILLING CODE 4310-32-P